DEPARTMENT OF TRANSPORTATION

Federal Aviation Administration

14 CFR Part 11

[Docket No. FAA-2005-22982; Amendment No. 11-51]

RIN 2120-AI69

Federal Register Dispositions of Petitions for Exemption

AGENCY: Federal Aviation Administration (FAA), DOT.

ACTION: Final rule.

SUMMARY: This final rule amends FAA regulations dealing with how the FAA notifies petitioners of its decisions on petitions for exemption. This rule change eliminates the requirement for the FAA to publish dispositions of petitions for exemption in the Federal Register. This change is intended to streamline our process and will save the agency the cost of publication. Publishing dispositions in the Federal Register is unnecessary because petitioners are notified in writing of FAA's decision and the decision is placed in the public docket, which is internet accessible and searchable.

DATES: This amendment becomes effective February 9, 2006.

FOR FURTHER INFORMATION CONTACT: Ida Klepper, Airmen and Airspace Rules Division, Office of Rulemaking, Federal Aviation Administration, 800 Independence Avenue, SW., Washington, DC 20591. Telephone: (202) 267-9677.

SUPPLEMENTARY INFORMATION:

Availability of Rulemaking Documents

You can get an electronic copy using the Internet by:

(1) Searching the Department of Transportation's electronic Docket Management System (DMS) web page (http://dms.dot.gov/search);

(2) Visiting the FAA's Regulations and Policies web page at http://www.faa.gov/regulations_policies/rulemaking/; or

(3) Accessing the Government Printing Office's web page at http://www.gpoaccess.gov/fr/index.html.

You can also get a copy by sending a request to the Federal Aviation Administration, Office of Rulemaking, ARM-1, 800 Independence Avenue SW., Washington, DC 20591, or by calling (202) 267-9680. Make sure to identify the amendment number or docket number of this rulemaking.

Small Business Regulatory Enforcement Fairness Act

The Small Business Regulatory Enforcement Fairness Act (SBREFA) of 1996 requires FAA to comply with small entity requests for information or advice about compliance with statutes and regulations within its jurisdiction. If you are a small entity and you have a question regarding this document, you may contact your local FAA official, or the person listed under FOR FURTHER INFORMATION CONTACT. You can find out more about SBREFA on the Internet at http://www.faa.gov/regulations_policies/rulemaking/sbre_act.

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Section 44701. Under that section, the FAA is charged with prescribing regulations to promote the safe flight of civil aircraft. The authority to grant exemption from those regulations is inherent in the authority to create them, as is the agency's determination of the most effective means of notifying affected persons of its decisions.

Discussion of Proposed Amendment

Section 11.91 explains how the FAA notifies petitioners of its decisions on petitions for exemption. Currently, we notify the petitioner in writing by sending a letter containing FAA's decision. The FAA also publishes a disposition of the petition in the Federal Register summarizing the decision document. The disposition includes the docket number, petitioner's name, regulatory citation, description of the relief sought, FAA's decision, date of decision, and an exemption number. The FAA places a copy of the decision document in the Docket Management System (DMS), which is the agency's public docket. The DMS is both internet accessible and searchable.

The DMS offers different ways to get the information you need. Users may perform a simple search at http://dms.dot.gov/search/searchFormSimple.cfm by docket number or keyword, or an advanced search at http://dms.dot.gov/search/searchFormAdvanced.cfm, which allows for expanded search capability. Users may view different types of reports at http://dms.dot.gov/reports/, such as the Docket Daily Filings at http://dms.dot.gov/reports/frmDailyFiling.cfm, which allows you to view the items in the docket for a particular day. Users may also subscribe to the DMS List Serve at http://dms.dot.gov/emailNotification/index.cfm, which allows users to be notified automatically when items of interest are added to DMS.

The DMS can be reached on 1-800-647-5527 and also offers website support, http://dms.dot.gov/Support/Index.cfm?site=dms, and help, http://dms.dot.gov/help/, to users.

Because of technological advancements, such as DMS, the FAA believes that it is unnecessary to continue to publish exemption dispositions in the Federal Register. The FAA has concluded that availability on the internet makes the decisions more accessible than publication in a document that reaches only those who routinely read the Federal Register. This rule change eliminates the requirement to publish exemption dispositions in the Federal Register. Each petitioner will continue to receive FAA's decision in writing.

This change is procedural and streamlines our process to better serve our customers. Therefore, the FAA is revising § 11.91 to state that a copy of the FAA's decision is placed in the public docket, which is internet accessible.

International Compatibility

In keeping with U.S. obligations under the Convention on International Civil Aviation, it is FAA policy to comply with International Civil Aviation Organization (ICAO) Standards and Recommended Practices to the maximum extent practicable. The FAA determined there are no ICAO Standards and Recommended Practices that correspond to these proposed regulations.

Paperwork Reduction Act

There are no current or new requirements for information collection associated with this amendment.

Regulatory Evaluation, Regulatory Flexibility Analysis, International Trade Impact Assessment, and Unfunded Mandates Assessment

Changes to Federal regulations must undergo several economic analyses. First, Executive Order 12866, Regulatory Planning and Review, directs that each Federal agency shall propose or adopt a regulation only upon a reasoned determination that the benefits of the intended regulation justify its costs. Second, the Regulatory Flexibility Act of 1980 requires agencies to analyze the economic impact of regulatory changes on small entities. Third, the Trade Agreements Act (19 U.S.C. 2531-2533) prohibits agencies from setting standards that create unnecessary obstacles to the foreign commerce of the United States. In developing U.S. standards, this Trade Act requires agencies to consider international standards and, where appropriate, to be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation). This portion of the preamble summarizes the FAA's analysis of the economic impact of this final rule.

The Department of Transportation Order DOT 2100.5 prescribes policies and procedures for simplification, analysis, and review of regulations. If the expected cost impact is so minimal that a proposal does not warrant a full evaluation, this order permits a statement to that effect. The basis for the minimal impact must be included in the preamble, if a full regulatory evaluation of the cost and benefits is not prepared. Such a determination has been made for this rule. The reasoning for that determination follows.

This final rule eliminates the requirement for the FAA to publish dispositions of petitions for exemption in the Federal Register. Publishing dispositions in the Federal Register is unnecessary because petitioners are notified in writing of FAA's decision and the decision is placed in the public docket, which is available via the Internet.

FAA has, therefore, determined this rulemaking action is not a “significant regulatory action” as defined in section 3(f) of Executive Order 12866 and is not “significant” as defined in DOT's Regulatory Policies and Procedures. In addition, the FAA has determined that this rulemaking action: (1) Will not have a significant economic impact on a substantial number of small entities; (2) will not affect international trade; and (3) will not impose an unfunded mandate on state, local, or tribal governments, or on the private sector.

Regulatory Flexibility Analysis

The Regulatory Flexibility Act of 1980 (RFA), 5 U.S.C. 601-612, establishes “as a principle of regulatory issuance that agencies shall endeavor, consistent with the objectives of the rule and of applicable statutes, to fit regulatory and informational requirements to the scale of the business, organization, and governmental jurisdictions subject to regulation.” To achieve that principle, the RFA requires agencies consider flexible regulatory proposals, to explain the rationale for their actions, and to solicit comments. The RFA covers a wide range of small entities, including small businesses, not-for-profit organizations, and small governmental jurisdictions.

Agencies must perform a review to determine whether a proposed or final rule will have a significant impact on a substantial number of small entities. If the agency determines that it will, the agency must prepare a regulatory flexibility analysis as described in the RFA.

However, if an agency determines that a proposed or final rule is not expected to have a significant economic impact on a substantial number of small entities, section 605(b) of the RFA provides that the head of the agency may so certify, and a regulatory flexibility analysis is not required. The certification must include a statement providing the factual basis for this determination, and the reasoning should be clear.

This final rule eliminates the requirement to publish dispositions of petitions for exemption in the Federal Register. Publishing dispositions in the Federal Register is unnecessary because petitioners are notified in writing of FAA's decision and the decision is placed in the public docket, which is available via the internet.

Consequently, as the FAA Administrator, I certify the rulemaking action will not have a significant economic impact on a substantial number of small entities.

International Trade Impact Assessment

The Trade Agreements Act of 1979 prohibits Federal agencies from establishing any standards or engaging in related activities that create unnecessary obstacles to the foreign commerce of the United States. Legitimate domestic objectives, such as safety, are not considered unnecessary obstacles. The statute also requires consideration of international standards and, where appropriate, that these international standards be the basis for U.S. standards. The FAA has assessed the potential effect of this rulemaking action and has determined that it will have only a domestic impact and therefore no effect on any trade-sensitive activity.

Unfunded Mandates Assessment

The Unfunded Mandates Reform Act of 1995 (the Act), enacted as Public Law 104-4 on March 22, 1995, is intended, among other things, to curb the practice of imposing unfunded Federal mandates on State, local, and tribal governments. Title II of the Act requires each Federal agency to prepare a written statement assessing the effects of any Federal mandate in a proposed or final agency rule that may result in a $100 million or more expenditure (adjusted annually for inflation) in any one year by State, local, and tribal governments, in the aggregate, or by the private sector. The FAA currently uses an inflation-adjusted value of $120.7 million in lieu of $100 million.

This final rule does not contain such a mandate. Therefore, the requirements of Title II of the Unfunded Mandates Reform Act of 1995 do not apply.

Executive Order 13132, Federalism

The FAA has analyzed this final rule under the principles and criteria of Executive Order 13132, Federalism. We determined that this action will not have a substantial direct effect on the States, or the relationship between the national Government and the States, or on the distribution of power and responsibilities among the various levels of government. Therefore, we have determined that this final rule does not have federalism implications.

Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 312d and involves no extraordinary circumstances.

Regulations That Significantly Affect Energy Supply, Distribution, or Use

The FAA has analyzed this final rule under Executive Order 13211, Actions Concerning Regulations that Significantly Affect Energy Supply, Distribution, or Use (66 FR 28355, May 18, 2001). We have determined that it is not a “significant energy action” under the executive order because it is not a “significant regulatory action” under Executive Order 12866, and it is not likely to have a significant adverse effect on the supply, distribution, or use of energy.

List of Subjects in 14 CFR Part 11

Administrative practice and procedure, Reporting and recordkeeping requirements.

The Amendment

For the reasons set forth above, the Federal Aviation Administration is amending 14 CFR Part 11 as follows:

PART 11—GENERAL RULEMAKING PROCEDURES

1. The authority citation for Part 11 continues to read as follows:

Authority: 49 U.S.C. 106(g), 40101, 40103, 40105, 40109, 40113, 44110, 44502, 44701-44702, 44711, and 46102.

2. Revise § 11.91 to read as follows:

§ 11.91 How does FAA inform me of its decision on my petition for exemption?

The FAA will notify you in writing about its decision on your petition. A copy of this decision is also placed in the public docket. We will include the docket number associated with your petition in our letter to you.

Issued in Washington, DC, on December 28, 2005.
Marion C. Blakey,
Administrator.

[FR Doc. 06-203 Filed 1-9-06; 8:45 am]

BILLING CODE 4910-13-P